DEPARTMENT OF ENERGY

Federal Energy Regulatory Commission

Notice of Attendance at NYISO Meetings

January 29, 2010.

The Federal Energy Regulatory Commission hereby gives notice that members of the Commission and Commission staff may attend the following upcoming NYISO meetings:

• NYISO Business Issues Committee

• February 3, 2010 (Rensselaer, NY)

• March 10, 2010 (Rensselaer, NY)

• April 7, 2010 (Rensselaer, NY)

• May 5, 2010 (Rensselaer, NY)

• June 2, 2010 (Rensselaer, NY)

• NYISO Management Committee

• February 24, 2010 (Rensselaer, NY)

• March 24, 2010 (Rensselaer, NY)

• April 21, 2010 (Rensselaer, NY)

• May 20, 2010 (Rensselaer, NY)

• June 15, 2010 (Rensselaer, NY)

• NYISO Annual Meeting June 14, 2010 (Bolton Landing, NY)

• NYISO ICAP Working Group

• February 12, 2010 (Rensselaer, NY)

• March 15, 2010 (Rensselaer, NY)

• April 23, 2010 (Rensselaer, NY)

• May 14, 2010 (Rensselaer, NY)

• June 17, 2010 (Rensselaer, NY)

• NYISO Operating Committee

• February 26, 2010 (Rensselaer, NY)

• March 11, 2010 (Rensselaer, NY)

• April 8, 2010 (Rensselaer, NY)

• May 6, 2010 (Rensselaer, NY)

• June 3, 2010 (Rensselaer, NY)

• NYISO Transmission Planning Advisory Subcommittee

• February 19, 2010 (Rensselaer, NY)

• March 29, 2010 (Rensselaer, NY)

• April 29, 2010 (Rensselaer, NY)

• May 26, 2010 (Rensselaer, NY)

• June 25, 2010 (Rensselaer, NY)

For additional meeting information, see: http://www.nyiso.com/public/committees/calendar/index.jsp

The discussions at each of the meetings described above may address matters at issue in pending proceedings including the following:

Docket Nos. EL07-39 and ER08-695, New York Independent System Operator, Inc.

Docket No. EL09-57, Astoria Gas Turbine Power LLC v. New York Independent System Operator, Inc.

Docket No. EL10-033, New York Independent System Operator, Inc.

Docket No. ER01-3155, New York Independent System Operator, Inc.

Docket Nos. ER01-3001-021/ER03-647-012 and ER01-3001-022/ER03-647-013, New York Independent System Operator, Inc.

Docket No. ER04-449, New York Independent System Operator, Inc.

Docket No. ER04-230, New York Independent System Operator, Inc.

Docket No. ER07-612, New York Independent System Operator, Inc.

Docket No. ER08-1281, New York Independent System Operator, Inc.

Docket No. ER08-867, New York Independent System Operator, Inc.

Docket No. ER09-1142, New York Independent System Operator, Inc.

Docket No. ER09-1204, New York Independent System Operator, Inc.

Docket No. ER09-1682, New York Independent System Operator, Inc.

Docket No. ER09-405, New York Independent System Operator, Inc.

Docket No. ER10-65, New York Independent System Operator, Inc.

Docket No. ER10-119, New York Independent System Operator, Inc.

Docket No. ER10-603, New York Independent System Operator, Inc.

Docket No. ER10-424, New York Independent System Operator, Inc.

Docket No. ER10-290, New York Independent System Operator, Inc.

Docket No. ER10-554, New York Independent System Operator, Inc.

Docket No. ER10-555, New York Independent System Operator, Inc.

Docket No. ER10-573, New York Independent System Operator, Inc.

Docket No. OA08-52; New York Independent System Operator, Inc.

Docket No. OA09-26, New York Independent System Operator, Inc.

The meetings are open to stakeholders. For more information, contact Jesse Hensley, Office of Energy Markets Regulation, Federal Energy Regulatory Commission at (202) 502-6228 or Jesse.Hensley@ferc.gov.

Kimberly D. Bose,
Secretary.

[FR Doc. 2010-2482 Filed 2-4-10; 8:45 am]

BILLING CODE 6717-01-P